NATIONAL FOUNDATION FOR THE ARTS AND THE HUMANITIES

National Endowment for the Arts

President's Committee on the Arts and the Humanities: Meeting #55

Pursuant to section 10(a)(2) of the Federal Advisory Committee Act (Pub. L. 92-463), as amended, notice is hereby given that a meeting of the President's Committee on the Arts and the Humanities (PCAH) will be held on Wednesday, March 31, 2004, from 11 a.m. to approximately 1 p.m. The meeting will be held in the Upstairs Conference Room at Zola's Restaurant, 800 F Street, NW., Washington, DC.

The Committee meeting will begin at 11 a.m. with a welcome, introductions and announcements by Adair Margo, Committee Chairman. This will be followed by a presentation by Marc Pachter (Director, National Portrait Gallery) and Lawrence Small (PCAH member) on renovations at the National Portrait Gallery. The meeting will include reports, presented by agency representatives, from the National Endowment for the Humanities, the Institute of Museum and Library Services, the National Endowment for the Arts, and the President's Committee on the Arts and the Humanities. The remainder of the meeting will focus on discussions of current activities in the area of youth arts and humanities learning and historic preservation/conservation as well as planned activities, including special events and international activities focusing on U.S.-Mexico cultural relations. The meeting will adjourn following closing remarks.

The President's Committee on the Arts and the Humanities was created by Executive Order in 1982 and advises, provides recommendations to, and assists the President, the National Endowment for the Arts, the National Endowment for the Humanities and the Institute of Museum and Library Services on matters relating to the arts and the humanities.

Any interested persons may attend as observers, on a space available basis, but seating is limited. Therefore, for this meeting, individuals wishing to attend must contact Georgiana Paul of the President's Committee seven days in advance at (202) 682-5409 or write to the Committee at 1100 Pennsylvania Avenue, NW., Suite 526, Washington, DC 20506. Further information with reference to this meeting can also be obtained from Ms. Paul.

If you need special accommodations due to a disability, please contact Ms. Paul through the Office of AccessAbility, National Endowment for the Arts, 1100 Pennsylvania Avenue, NW., Washington, DC 20506, (202) 682-5532, TDY-TDD (202) 682-5496, at least seven (7) days prior to the meeting.

Dated: March 3, 2004.
Kathy Plowitz-Worden,
Panel Coordinator, Panel Operations, National Endowment for the Arts.

[FR Doc. 04-5136 Filed 3-5-04; 8:45 am]

BILLING CODE 7537-01-P